DEPARTMENT OF HEALTH AND HUMAN SERVICES

Administration for Children and Families

Submission for OMB Review; Comment Request

Title: Personal Responsibility Education Program (PREP) Performance Measures and Adult Preparation Subjects (PMAPS) Studies—Data Collection Related to the Performance Measures Study.

OMB No.: New Collection.

Description: The Office of Planning, Research, and Evaluation (HHS/ACF/OPRE) and the Family and Youth Services Bureau (HHS/ACF/ACYF/FYSB) in the Administration for Children and Families (ACF) propose a data collection activity as part of the Personal Responsibility Education Program (PREP) Performance Measures and Adult Preparation Subjects (PMAPS) Studies. The goals of the PMAPS studies are to collect, analyze, and report on performance measure data for PREP programs and to develop and test Adult Preparation Subjects (APS) conceptual models.

The PMAPS studies consist of two components: The “Performance Measures Study,” and the “Adult Preparation Subjects Study.” This notice is specific to data collection activities for the Performance Measures Study only. The Performance Measures Study component includes collection and analysis of performance measure data from State PREP (SPREP), Tribal PREP (TPREP), Competitive PREP (CPREP), and Personal Responsibility Education Innovative Strategies (PREIS) grantees. Data will be used to determine if PREP and PREIS grantees are meeting performance benchmarks related to the program's mission and priorities.

Respondents: Performance measurement data collection instruments will be administered to individuals representing SPREP, TPREP, CPREP, and PREIS grantees, their subawardees, and program participants.

Annual Burden Estimates
Instrument | Total number of respondents | Annual number of respondents | Number of responses per respondent | Average burden hours per response | Annual burden hours
Entry Survey | 414,747 | 138,249 | 1 | 0.13333 | 18,433
Exit Survey | 331,797 | 110,599 | 1 | 0.25 | 27,650
Core measures | 16,000 | 5,333 | 3 | 0.08 | 1,280
Performance Measures Data Report Form (grantees) | 279 | 93 | 2 | 18 for S/T; 14 for CPREP and PREIS | 3,076
Performance Measures Data Report Form (sub-awardees) | 1,248 | 416 | 2 | 14 for S/T; 12 for CPREP | 11,472
Estimated Total Annual Burden Hours |  |  |  |  | 61,911

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project. Email: OIRA_SUBMISSION@OMB.EOP.GOV. Attn: Desk Officer for the Administration for Children and Families.

Naomi Goldstein,
ACF/OPRE Certifying Officer.

[FR Doc. 2016-22316 Filed 9-15-16; 8:45 am]

BILLING CODE 4184-37-P